DEPARTMENT OF AGRICULTURE

Submission for OMB Review; Comment Request

February 20, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by March 28, 2013 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Submission of Itineraries

OMB Control Number: 0579-0361

Summary of Collection: The Animal Welfare Act (AWA) was first enacted as the Laboratory Animal Welfare Act (LAWA) (Pub. L. 89-544) on August 24, 1966, and amended in 1970, 1976, 1985, 1990, 2002, 2007, 2008, and 2010. The AWA requires the U.S. Department of Agriculture (USDA) to regulate the humane care and handling of most warm-blooded animals, including marine mammals, used for research or exhibition purposes, sold as pets, or transported in commerce. This legislation and its amendments were the results of extensive demand by organized animal welfare groups and private citizens requesting a Federal law to protect such animals. USDA, Animal and Plant Health Inspection Service (APHIS), Animal Care (AC) has the responsibility to enforce the AWA and the provisions of 9 CFR, Chapter 1, Subchapter A, which implements the AWA.

Need and Use of the Information: APHIS requires licensees or registrants who intend to exhibit animals away from their approved sites to submit itineraries in accordance with § 2.126 of the regulations. APHIS uses the submission of itineraries to provide data necessary for the review and evaluation of program compliance by regulated facilities, and provides a workable enforcement system to carry out the requirements of the AWA and the intent of Congress, on a practical daily basis, without resorting to more detailed and stringent regulations and standards which could be more burdensome to regulated facilities. The itinerary must include the name and/or other animal identification, species name, sex, and age of each animal, the name of the person exhibiting the animal, the owner of the animal(s) if not the licensee or registrant, the business name of the exhibitor and owner, any names being used to promote the tour, and the current USDA licensee or registration number(s), the date the animal(s) will be away from the facility, all anticipated dates for all stops, and all site names and complete addresses of all stops and layovers. Without this information, valuable time and resources are wasted trying to track down exhibitors when APHIS is investigating complaints.

Description of Respondents: Individuals or households; Business or other for-profit

Number of Respondents: 425

Frequency of Responses: Reporting: On occasion

Total Burden Hours: 1,025

Ruth Brown,
Departmental Information Collection Clearance Officer.

[FR Doc. 2013-04330 Filed 2-25-13; 8:45 am]

BILLING CODE 3410-34-P